DEPARTMENT OF TRANSPORTATION

Federal Aviation Administration

[Docket No. FAA-2004-19834]

Proposed Advisory Circular 45-2C, Identification and Registration Marking

AGENCY: Federal Aviation Administration (FAA), DOT.

ACTION: Notice of availability.

SUMMARY: This notice announces the availability of Advisory Circular (AC) 45-2C, Identification and Registration Marking, for review and comments. The proposed AC provides guidance and information to comply with the requirements for identifying aircraft and related products with identification plates, and identifying aircraft with nationality and registration marks. This AC provides a means, but not the only means, of demonstrating compliance with the requirements of Title 14, Code of Federal Regulations (14 CFR), part 45, Identification and Registration Marking.

DATES: Comments submitted must identify the proposed AC 45-2C and be received no later than January 18, 2005.

ADDRESSES: Copies of this proposed AC can be obtained from the Federal Aviation Administration, Airworthiness Certification Branch, AIR-230, Production and Airworthiness Division, Aircraft Certification Service, 800 Independence Avenue, SW., Washington, DC 20591 or at http://dms.dot.gov. Send comments on this AC 45-2C, Identification and Registration Marking to the Docket Management System, U.S. Department of Transportation, Room Plaza 401, 400 Seventh Street, SW., Washington, DC 20590-0001. You must identify the docket number FAA-2004-19834, at the beginning of your comments. You may also submit comments to the Internet at http://dms.dot.gov. You may review the public docket containing AC 45-2C, Identification and Registration Marking, any comments received, and any final disposition in person in the Dockets Office between 9 a.m. and 5 p.m., Monday through Friday, except Federal holidays. The Docket Office (telephone 1-800-647-5527) in on the plaza level of Transportation NASSIF Building at the above address.

FOR FURTHER INFORMATION CONTACT: David Broughton, Airworthiness Certification Branch, AIR-230, Production and Airworthiness Division, Aircraft Certification Service, 800 Independence Avenue, SW., Washington, DC 20591; telephone: (202) 267-8361.

SUPPLEMENTARY INFORMATION:

Background

Proposed AC 45-2C is written in the Plain Language format to provide information and guidance on the requirements of identifying aircraft and related products with identification plates, and identifying aircraft with nationality and registration marks.

Comments Invited

Interested persons are invited to comment on proposed AC 45-2C listed in this notice by submitting such written data, views, or arguments, as they desire, to the above specified address. The Aircraft Certification Service will consider all communications received on or before the closing date before issuing the final AC.

Comments received on the proposed AC may be examined before and after the comment closing date as explained above.

Issued in Washington, DC, on December 10, 2004.
Frank P. Paskiewicz,
Manager, Production and Airworthiness Division.

[FR Doc. 04-27597 Filed 12-16-04; 8:45 am]

BILLING CODE 4910-13-M